DEPARTMENT OF HEALTH AND HUMAN SERVICES

Centers for Medicare & Medicaid Services

[Document Identifiers: CMS-10902]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), Federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by November 4, 2024.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: ___, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10902 Environmental Health Hazards Checklist Medicare Coverage for Individuals Exposed to Environmental Health Hazards

Under the PRA (44 U.S.C. 3501-3520), Federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires Federal agencies to publish a 60-day notice in the Federal Register concerning each proposed collection of information, including each proposed extension or reinstatement of an existing collection of information, before submitting the collection to OMB for approval. To comply with this requirement, CMS is publishing this notice.

Information Collections

1. Type of Information Collection Request: New Collection (Request for a new OMB control number); Title of Information Collection: Environmental Health Hazards Checklist Medicare Coverage for Individuals Exposed to Environmental Health Hazards; Use: Section 1881A of the Act provides an enrollment basis for individuals who have been exposed to environmental health hazards. Currently, the only individuals eligible for Medicare under this provision are those who were present in Lincoln County, Montana, and have an asbestos-related disease (ARD) diagnosis. Eligible individuals must be diagnosed with one or more asbestos-related conditions and have been present in Lincoln County, Montana, for a total of at least 6 months (need not be consecutive) in the period ending 10 years or more before diagnosis of an asbestos-related condition. This form provides verification from a provider so that SSA can determine eligibility for Medicare enrollment.

SSA uses this information to determine whether an individual meets the requirements for Medicare enrollment on the basis of an Environmental Health Hazard. The form is faxed to the applicant's provider by SSA. The provider must complete and sign the form and submit it back to SSA via fax or mail. The information on the completed form is reviewed manually by SSA. Thus, the collection of this information does not involve the use of information technology. Form Number: CMS-10902 (OMB control number: 0938-New); Frequency: Once; Affected Public: Individuals and Households; Number of Respondents: 61; Total Annual Responses: 61; Total Annual Hours: 10. (For policy questions regarding this collection contact Tyrissa Woods at 410-786-0286 or Tyrissa.Woods@cms.hhs.gov).

William N. Parham, III,
Director, Division of Information Collections and Regulatory Impacts, Office of Strategic Operations and Regulatory Affairs.

[FR Doc. 2024-19867 Filed 9-4-24; 8:45 am]

BILLING CODE 4120-01-P